DEPARTMENT OF COMMERCE

National Oceanic and Atmospheric Administration

[RTID 0648-XD914]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Archipelagic Plan Team (APT) and Pelagic Plan Team (PPT) to discuss fishery management issues and develop recommendations for future management of fisheries in the Western Pacific Region.

DATES: The APT will meet on Monday and Tuesday, May 13-14, 2024, between 8:30 a.m. and 4 p.m., Hawaii Standard Time (HST). The APT will meet jointly with the PPT on Wednesday, May 15, 2024, between 8:30 a.m. and 4 p.m., HST. The PPT will meet on Thursday and Friday, May 16-17, 2024, between 8:30 a.m. and 4 p.m., HST. For specific times and agendas, see SUPPLEMENTARY INFORMATION.

ADDRESSES: The meeting will be held in a hybrid format with in-person and remote participation (Webex) options available for the members, and public attendance limited to web conference via Webex. In-person attendance for members will be hosted at the Council office, 1164 Bishop Street, Suite 1400, Honolulu, HI 96813. Specific information on joining the meeting, connecting to the web conference and making oral public comments will be posted on the Council website at www.wpcouncil.org. For assistance with the web conference connection, contact the Council office at (808) 522-8220.

FOR FURTHER INFORMATION CONTACT: Kitty M. Simonds, Executive Director, Western Pacific Fishery Management Council; phone: (808) 522-8220 (voice) or (808) 522-8226 (fax).

SUPPLEMENTARY INFORMATION: The APT meeting will be held Monday and Tuesday, May 13-14, 2024, between 8:30 a.m. and 4 p.m., Hawaii Standard Time (HST) (7:30 a.m. to 3 p.m., Samoa Standard Time (SST); 4:30 a.m. to 12 p.m. on May 14-15, 2023, Chamorro Standard Time (ChST)). The APT will meet jointly with the PPT on Wednesday, May 15, 2024, between 8:30 a.m. and 4 p.m., HST (7:30 a.m. to 3 p.m. Samoa Standard Time (SST); 4:30 a.m. to 12 p.m. on May 16, 2024, Chamorro Standard Time (ChST)). The PPT will meet on Thursday and Friday, May 16-17, 2024, between 8:30 a.m. and 4 p.m., HST (7:30 a.m. to 3 p.m., Samoa Standard Time (SST); 4:30 a.m. to 12 p.m. on May 17-18, 2024, Chamorro Standard Time (ChST)). Opportunities to present oral public comment will be provided on the agenda. The order of the agenda may change, and will be announced in advance at the meeting. The meeting may run past the scheduled times noted above to complete scheduled business.

Agenda for the Archipelagic Plan Team Meeting

Monday, May 13, 2024, 8:30 a.m. to 4 p.m., HST (7:30 a.m. to 3 p.m., Samoa Standard Time (SST); 4:30 a.m. to 12 p.m. on May 14, 2024, Chamorro Standard Time (ChST))

1. Welcome and introductions

2. Approval of Draft APT Agenda

3. Report on Previous APT Recommendations

4. 2023 Annual Stock Assessment and Fishery Evaluation (SAFE) Reports

A. Fishery Performance

i. Archipelagic Fishery Performance Modules

a. American Samoa

b. Guam

c. Commonwealth of the Northern Mariana Islands (CNMI)

d. Hawaii

ii. Ecosystem Component Species Discussion

a. Adding/Removing ECS from the Fishery Ecosystem Plans (FEPs)

b. Triggers for Management Action

c. Points of Emphasis for Requested Office of Sustainable Fisheries Presentation

B. Ecosystem and Climate Considerations

i. Protected Species

ii. Life History and Length-Derived variables

iii. Biomass Estimates for Coral Reef Ecosystem Components

5. Discussions

6. Public Comment

7. 2023 Archipelagic Annual SAFE Reports (continued)

A. Administrative Reports

i. Federal Permit and Logbook Data

ii. Regulatory Actions

iii. Discussions

B. Discussion: Archipelagic SAFE Report Matters

i. Changing American Samoa BMUS Reporting Scheme

ii. Other Items

Tuesday, May 14, 2024, 8:30 a.m. to 4 p.m., HST (7:30 a.m. to 3 p.m., Samoa Standard Time (SST); 4:30 a.m. to 12 p.m. on May 15, 2024, Chamorro Standard Time (ChST))

8. APT Review: Working Group Progress

A. Territorial Non-Commercial Modules

B. Uku Annual Catch Limit (ACL) Monitoring

C. Oceanic Whitetip Shark Interactions in Bottomfish Fisheries

9. Council Actions

A. American Samoa Bottomfish Management Unit Species (BMUS) Revision

B. Precious Coral Essential Fish Habitat (EFH) Update

C. ACL Specifications

i. Guam BMUS

ii. Hawaii Deep 7 Bottomfish

10. Ongoing and Upcoming Uku Efforts

A. Ecosystem-Based Fishery Management (EBFM) Initiative

B. Data Survey Project

C. Research Stock Assessment

11. Public Comment

12. Discussion and Archipelagic Plan Team Recommendations

Agenda for the Joint Archipelagic and Pelagic Plan Teams Meeting

Wednesday, May 15, 2024, 8:30 a.m. to 4 p.m., HST (7:30 a.m. to 3 p.m., Samoa Standard Time (SST); 4:30 a.m. to 12 p.m. on May 16, 2024, Chamorro Standard Time (ChST))

1. PPT Welcome and introductions

2. Approval of draft PPT agenda

3. 2023 Annual SAFE Reports

A. Fisher Observations

i. American Samoa

ii. CNMI

iii. Guam

iv. Hawaii

B. Ecosystem Component Species Discussion

i. Oceanic and Climate Variables

a. Dashboard Presentation (and Relation to Council's Online Portals)

b. Discussion: Incorporating Fishery-Ecosystem Relationships

ii. Socioeconomics

a. Equity and Environmental Justice (EEJ) Subsection

b. Discussion: Overlap Between Hawaii FEP and Pelagic FEP

iii. Essential Fish Habitat

iv. Marine Planning

4. Online Portals for SAFE Reports

A. Review New Section—Pelagic Socioeconomics

B. Next Steps

5. Plan team Review: Working Group and Action Item Progress

A. Hawaii Non-Commercial Module

B. Automation

C. Marine Planning Module Revisions

D. Regulatory Timelines

E. Plan team Style Guide

6. Discussion: Archipelagic and Pelagic SAFE Report Matters

A. Uncertainty Values

B. Non-disclosed Data

C. Other Items

7. Program Planning

A. Council Five-Year Program Plan

B. Magnuson-Stevens Reauthorization Act Research Priorities 2025-2029

C. Climate Ecosystems and Fisheries Initiative (CEFI)

D. Small-Boat Fisheries

i. Project Update

ii. MUS Discussion

8. Other Issues

9. Public Comment

10. Discussion and Joint Plan Team Recommendations

11. Other Business and APT Closing

Agenda for the Pelagic Plan Team Meeting

Thursday, May 16, 2024, 8:30 a.m. to 4 p.m., HST (7:30 a.m. to 3 p.m., Samoa Standard Time (SST); 4:30 a.m. to 12 p.m. on May 17, 2024, Chamorro Standard Time (ChST))

1. Report on Previous PPT Recommendations

2. 2023 Pelagic Annual SAFE Reports

A. Fishery Data Modules

i. American Samoa

ii. CNMI

iii. Guam

iv. Hawaii

v. International

B. Ecosystem Considerations Modules

i. Protected Species

3. PPT Review: Working Group and Action Item Progress

A. Shallow-set Longline Turtle Trip Interaction Limit Evaluation Working Group Report

B. Life History Module Development

C. Discussion: Assessment of Creel Survey Design for American Samoa Trolling

D. Incorporating Additional Biological Opinion (BiOp) Monitoring Requirements

4. Public Comment

Friday, May 17, 2024, 8:30 a.m. to 4 p.m., HST (7:30 a.m. to 3 p.m., Samoa Standard Time (SST); 4:30 a.m. to 12 p.m. on May 18, 2024, Chamorro Standard Time (ChST))

5. Discussion: Pelagic SAFE Report Matters

A. Removal of Stacked Bar Charts from Report

B. Other Items

6. BiOp Reasonable and Prudent Measures (RPM) Implementation Working Group Report and Timeline for Council Action

A. Crew Training Program

B. Insular False Killer Whale Overlap Area Observer Coverage

7. Electronic Monitoring Pre-Implementation Program Update from Electronic Technologies Steering Committee

8. Characterizing Cookie Cutter Shark Interactions in the Hawaii Longline Fishery

9. Characterizing Hawaii Shortline Fisheries

10. International Fisheries Updates

11. Discussions

12. Public Comment

13. Pelagic Plan Team Recommendations

14. Other Business and PPT Closing

Special Accommodations

These meetings are accessible to people with disabilities. Please direct requests for sign language interpretation or other auxiliary aids to Kitty M. Simonds (see FOR FURTHER INFORMATION CONTACT section above) at least 5 days prior to the meeting date.

Authority: 16 U.S.C. 1801 et seq.

Dated: April 23, 2024.
Rey Israel Marquez,
Acting Deputy Director, Office of Sustainable Fisheries, National Marine Fisheries Service.

[FR Doc. 2024-09077 Filed 4-26-24; 8:45 am]

BILLING CODE 3510-22-P